DEPARTMENT OF TRANSPORTATION

Office of the Secretary

[Docket No. OST-2003-15962]

Notice of Request for Renewal of a Previously Approved Collection

AGENCY: Office of the Secretary, DOT.

ACTION: Notice; correction.

SUMMARY: The Office of the Secretary published a document in the Federal Register on September 26, 2006, concerning a request for an extension of a previously approved information collection. We are correcting the document as set forth below. Also, in accordance with the Paperwork Reduction Act of 1995 (44 U.S.C. Chapter 35, as amended), this notice announces that the Information Collection Request (ICR) abstracted below which will be forwarded to the Office of Management and Budget (OMB) for renewal. The ICR describes the nature of the information collection and its expected burden. The Federal Register Notice with a 60-day comment period soliciting comments on the following collection of information was published on September 26, 2006 [Vol. 71, No. 186, Page 56213]. No comments were received.

DATES: Comments on this notice must be received by April 20, 2007 and sent to the attention of the DOT/OST Desk Officer, Office of Information and Regulatory Affairs, Office of Management and Budget, Docket Library, Room 10102, 725 17th Street, NW., Washington, DC 20503 or oira_submission@omb.eop.gov (e-mail).

FOR FURTHER INFORMATION CONTACT: Lauralyn Remo, Air Carrier Fitness Division (X-56), Office of Aviation Analysis, Office of the Secretary, U.S. Department of Transportation, 400 Seventh Street, SW., Washington, DC 20590, (202) 366-9721.

Correction

In the September 26, 2006, Federal Register [71 FR 56213], correct the Number of Respondents and Annual Estimated Burden Hours on Respondents.

SUPPLEMENTARY INFORMATION: Title: Procedures and Evidence Rules for Air Carrier Authority Applications: 14 CFR Part 201—Air Carrier Authority under Subtitle VII of Title 49 of the United States Code—(Amended); 14 CFR Part 204—Data to Support Fitness Determinations; 14 CFR Part 291—Cargo Operations in Interstate Air Transportation.

OMB Control Number: 2106-0023.

Affected Entities: Persons seeking initial or continuing authority to engage in air transportation of persons, property, and/or mail.

Frequency of Response: On occasion.

Number of Respondents: 94.

Annual Estimated Burden Hours on Respondents: 9,604 hours.

Comments are invited on: (a) Whether the proposed collection of information is necessary for the proper performance of the functions of the Department, including whether the information will have practical utility; (b) the accuracy of the Department's estimate of the burden of the proposed information collection; (c) ways to enhance the quality, utility and clarity of the information to be collected; and (d) ways to minimize the burden of the collection of information on respondents, including the use of automated collection techniques or other forms of information technology.

All responses to this notice will be summarized and included in the request for OMB approval. All comments will also become a matter of public record.

Issued in Washington, DC, on March 15, 2007.
Patricia Lawton,
IT Investment Management Office, U.S. Department of Transportation.

[FR Doc. E7-5147 Filed 3-20-07; 8:45 am]

BILLING CODE 4910-9X-P